DEPARTMENT OF TRANSPORTATION

Pipeline and Hazardous Materials Safety Administration

Pipeline Safety: Planning for Coordination of Emergency Response to Pipeline Emergencies

AGENCY: Office of Pipeline Safety (OPS), Pipeline and Hazardous Materials Safety Administration, DOT.

ACTION: Notice; issuance of advisory bulletin.

SUMMARY: This document alerts pipeline operators about the need to preplan for emergency response with utilities whose proximity to the pipeline may impact the response. Coordination with electric and other utilities may be critical in responding to a pipeline emergency. Preplanning would facilitate actions that may be needed for safety, such as removing sources of ignition or reducing the amount of combustible material.

FOR FURTHER INFORMATION CONTACT: Robert J. Hall by phone at (202) 366-8860, by fax at (202) 366-4566, or by e-mail, robert.hall@dot.gov. General information about the Pipeline and Hazardous Materials Safety Administration's Office of Pipeline Safety programs may be obtained by accessing the home page at http://ops.dot.gov.

SUPPLEMENTARY INFORMATION:

I. Background

Existing regulations for both gas and hazardous liquid pipelines require operators to have emergency procedures to address pipeline emergencies. The key element of these requirements, which are located at 49 CFR 192.615 and 195.402(e), is to plan response before the emergency occurs. Because pipelines are often located in public space rather than in controlled access areas, planning emergency response must include more than internal plans. The regulations explicitly require that operators include procedures for planning with fire, police and other public officials to ensure a coordinated response. It is also important to plan a coordinated response with owners of other utilities in the vicinity of the pipeline. The operations of these utilities may provide sources of ignition for the product released from a pipeline, may increase the burning time of fires that have already started, or may delay responders who are attempting to make the situation safe rapidly.

In the evening of April 7, 2003, a breakout tank exploded and subsequently ignited in Glenpool, Oklahoma. The fire continued to burn and increased in the early morning of April 8 when electric lines affected by the previous day's explosion and fire fell into a dike. The diesel fuel being contained in the dike ignited, expanding the fire. This resulted in a temporary suspension of firefighting and damaged additional facilities. While there were no injuries or fatalities, the fire burned for over 20 hours; the cost of the accident exceeded two million dollars; residents were evacuated; and schools were closed. The National Transportation Safety Board (NTSB) conducted an investigation of the accident. In its report, the NTSB found that lack of a coordinated emergency response contributed to the severity of the accident. The NTSB noted that the existing pipeline safety regulations on emergency procedures do not explicitly require that operators have procedures for preplanning with electric and other utilities.

A previous accident also points to the need for better coordination of emergency response. On March 1, 1998, a pipeline failure occurred when a raven landed on a power line. This resulted in a fault current that impacted a gas pipeline in Anchorage, Alaska. The situation very quickly developed into an explosion at the public electric company's plant. Although preplanning was required by regulation, the pipeline operator did not coordinate emergency response well with the fire department resulting in delays in shutting off the flow of gas. This resulted in additional fire damage. Inadequate coordination with the electric company also contributed to this delay.

These accidents point to the need for operators to plan with utilities on how to coordinate actions needed in responding to a pipeline emergency. This preplanning will result in better coordination when an emergency occurs.

II. Advisory Bulletin ADB-05-03

To: Owners and Operators of Natural Gas and Hazardous Liquid Pipeline Facilities in the Vicinity of Electric and other Utilities.

Subject: Preplanning with owners of electric and other utilities for coordinated response to pipeline emergencies.

Purpose: To advise operators of pipeline facilities located near electric and other utilities of the need to preplan emergency response with the owners of those electric and other utilities to ensure better coordination of response, and reduced damages, when a pipeline emergency occurs.

Advisory: Operators of pipeline facilities are required to plan emergency response before an emergency happens. The regulations include required elements of emergency plans and procedures. In planning emergency response, an operator should carefully look at the environment surrounding the pipeline facility and the risks that the environment will pose in the event of a pipeline emergency. Electric and other utilities may pose sources of ignition or may provide additional fuel for fires. The operations of these utilities may make response to a pipeline emergency by firefighters or the pipeline operator more difficult. Preplanning with these utilities will help the operator identify issues that may arise in responding to pipeline emergencies and plan effective response before there is an emergency. This will improve the coordination of emergency response and reduce delays.

OPS advises pipeline operators to include within their emergency response planning outreach to owners of electric and other utilities in order to preplan and coordinate response to pipeline emergencies.

Issued in Washington, DC, on May 17, 2005.
Theodore L. Willke,
Deputy Associate Administrator for Pipeline Safety.

[FR Doc. 05-10202 Filed 5-20-05; 8:45 am]

BILLING CODE 4910-60-P